DEPARTMENT OF COMMERCE

National Oceanic and Atmospheric Administration

50 CFR Part 660

[Docket No. 240726-0206; RTID 0648-XE135]

Fisheries Off West Coast States; Coastal Pelagic Species Fisheries; Interim Specifications and Management Measures for Pacific Sardine

AGENCY: National Marine Fisheries Service (NMFS), National Oceanic and Atmospheric Administration (NOAA), Commerce.

ACTION: Final rule.

SUMMARY: This final rule implements interim annual harvest specifications and management measures for the northern subpopulation of Pacific sardine (hereafter, Pacific sardine), pursuant to an order issued on July 10, 2024, by the U.S. District Court for the Northern District of California in Oceana, Inc., v. Raimondo, et al.. Specifically, this rule re-instates the annual specifications and management measures that were in place for the 2023-2024 fishing year in whole, until the 2024-2025 annual Pacific sardine specifications and management measures are effective.

DATES: Effective July 29, 2024.

FOR FURTHER INFORMATION CONTACT: Katie Davis, West Coast Region, NMFS, (323) 372-2126, Katie.Davis@noaa.gov.

SUPPLEMENTARY INFORMATION: This final rule re-instates the harvest specifications and management measures that were in place for the 2023-2024 Pacific sardine fishing year (88 FR 41040, June 23, 2023) and that expired on June 30, 2024. These interim harvest specifications and management measures are effective until the 2024-2025 annual Pacific sardine specifications are effective. Proposed 2024-2025 Pacific sardine harvest specifications and management measures were published in the Federal Register on June 21, 2024 (89 FR 52005).

This action is necessary to comply with a June 28, 2024 remedy order and July 10, 2024 amending remedy order issued by the U.S. District Court for the Northern District of California (the Court) in Oceana, Inc., v. Raimondo, et al., No. 5:21-cv-05407-VKD (N.D. Cal., filed July 14, 2021), which directs NMFS to implement interim specifications that are no less restrictive than the 2023-2024 specifications, that take effect upon the expiration of the 2023-2024 specifications (i.e., July 1, 2024), and remain in effect until NMFS promulgates 2024-2025 annual specifications.

The interim specifications being implemented by this action can be found in table 1, and the additional regulations and management measures are listed below table 1.

Table 1—Interim Harvest Specifications, in Metric Tons
[mt]
Overfishing limit (OFL) | Acceptable biological catch (ABC) | Harvest guideline (HG) | Annual catch limit (ACL) | Annual catch target (ACT)
5,506 | 3,953 | 0 | 3,953 | 3,600

This final rule also temporarily re-instates the following management measures for commercial sardine harvest:

1. The primary directed commercial fishery is closed.

2. If landings in the live bait fishery reach 2,500 mt of Pacific sardine, then a 1 mt per-trip limit of sardine would apply to the live bait fishery.

3. An incidental per-landing limit of 20 percent (by weight) of Pacific sardine applies to other coastal pelagic species (CPS) primary directed fisheries (e.g., Pacific mackerel).

4. If the ACT of 3,600 mt is attained, then a 1 mt per-trip limit of Pacific sardine landings would apply to all CPS fisheries (i.e., items 2 and 3 of this list would no longer apply).

5. An incidental per-landing allowance of 2 mt of Pacific sardine would apply to non-CPS fisheries until the ACL is reached.

All sources of catch, including any exempted fishing permit (EFP) set-asides, the live bait fishery, and other minimal sources of harvest, such as incidental catch in CPS and non-CPS fisheries and minor directed fishing, will be accounted for against the ACT and ACL.

The NMFS West Coast Regional Administrator will publish a notice in the Federal Register to announce when catch reaches the management measure limits, as well as any resulting changes to allowable incidental catch percentages. Additionally, to ensure that the regulated community is informed of any closure, NMFS will make announcements through other means available, including emails to fishermen, processors, and state fishery management agencies.

Classification

NMFS has the authority to implement annual harvest specifications and management measures for Pacific sardine under the Magnuson-Stevens Fishery Conservation and Management Act (MSA; 16 U.S.C. 1801 et seq.). The NMFS Assistant Administrator has determined that this interim specifications rule is necessary to comply with a Court order.

The NMFS Assistant Administrator has determined that good cause exists to issue this rule without advance notice in a proposed rule or the opportunity for public comment (see 5 U.S.C. 553(b)(3)(B)) and to make the rule effective immediately without providing a 30-day delay after publication (see 5 U.S.C. 553(d)(3)). NMFS is obligated to implement these measures immediately to comply with the Court's June 28, 2024 Order, which “directs NMFS to implement interim specifications effective July 1, 2024 that are no less restrictive than the 2023-2024 specifications,” and the Court's July 10, 2024 Order, which amended the June 28, 2024 Order to “implement interim specifications (including a further interim rule if necessary) that are no less restrictive than the current 2023-2024 annual specifications as soon as possible . . . Such interim specifications shall remain in effect until issuance of the final 2024-2025 annual specifications.” To comply with the July 10, 2024 order, NMFS must implement this rule prior to the expiration of the first interim specifications rule on August 1, 2024 (89 FR 57093, July 12, 2024). NMFS does not have discretion to implement measures that do not comply with the order in substance or timing. Providing prior notice and an opportunity for comment and delaying the effective date of this rule for 30 days after publication is therefore unnecessary and impracticable, and good cause exists to make this interim rule effective immediately.

This final rule is exempt from review under Executive Order 12866.

Because prior notice and opportunity for public comment are not required for this rule by 5 U.S.C. 553, or any other law, the analytical requirements of the Regulatory Flexibility Act, 5 U.S.C. 601 et seq., are inapplicable.

Authority: 16 U.S.C. 1801 et seq.

Dated: July 26, 2024.
Kimberly Damon-Randall,
Director, Office of Protected Resources, National Marine Fisheries Service.

[FR Doc. 2024-16942 Filed 7-29-24; 4:15 pm]

BILLING CODE 3510-22-P